DEPARTMENT OF COMMERCE

International Trade Administration

[A-485-803]

Certain Cut-to-Length Carbon Steel Plate From Romania: Final Results of Antidumping Duty Administrative Review

AGENCY: Import Administration, International Trade Administration, Department of Commerce.

ACTION: Notice of final results of antidumping duty administrative review.

SUMMARY: On September 7, 2000, the Department of Commerce published the preliminary results of administrative review of the antidumping duty order on certain cut-to-length carbon steel plate from Romania. This review covers one manufacturer/exporter of the subject merchandise. The period of review is August 1, 1998 through July 31, 1999.

Based on our analysis of the comments received, we have made changes in the margin calculations. However, these changes did not cause the final results to differ from the preliminary results. The final weighted-average dumping margin for the reviewed firms is listed below in the section entitled “Final Results of Review.”

EFFECTIVE DATE: January 12, 2001.

FOR FURTHER INFORMATION CONTACT: Fred Baker or Robert James, Enforcement Group III—Office 8, Import Administration, International Trade Administration, U.S. Department of Commerce, 14th Street and Constitution Avenue, NW., Washington, DC 20230; telephone (202) 482-2924 (Baker), (202) 482-0649 (James).

SUPPLEMENTARY INFORMATION:

Applicable Statute and Regulations

Unless otherwise indicated, all citations to the Tariff Act of 1930, as amended (the Tariff Act) are references to the provisions effective January 1, 1995, the effective date of the amendments made to the Tariff Act by the Uruguay Round Agreements Act (URAA). In addition, unless otherwise indicated, all references to the Department of Commerce (the Department) regulations are to 19 CFR part 351 (2000).

Background

On September 7, 2000, the Department published the preliminary results of administrative review of the antidumping duty order on cut-to-length carbon steel plate from Romania. See Certain Cut-to-Length Carbon Steel Plate from Romania: Preliminary Results of Antidumping Duty Administrative Review and Final Partial Recision of Review, 65 FR 54208 (September 7, 2000). The review covers one manufacturer, S.C. Sidex S.A. (Sidex), and one exporter, Metalexportimport, S.A. (MEI). The period of review (POR) is August 1, 1998 through July 31, 1999. We invited parties to comment on our preliminary results of review. On October 10, 2000, MEI/Sidex and petitioners (Bethlehem Steel Corporation and U.S. Steel Group, a unit of USX Corporation) filed case briefs. These parties filed rebuttal briefs on October 17, 2000. This Department has conducted this administrative review in accordance with section 751 of the Tariff Act.

Scope of the Review

The products covered in this review include hot-rolled carbon steel universal mill plates (i.e., flat-rolled products rolled on four faces or in a closed box pass, of a width exceeding 150 millimeters but not exceeding 1,250 millimeters and of a thickness of not less than 4 millimeters, not in coil and without patterns in relief), of rectangular shape, neither clad, plated nor coated with metal, whether or not painted, varnished, or coated with plastics or other nonmetallic substances; and certain hot-rolled carbon steel flat-rolled products in straight lengths, of rectangular shape, hot rolled, neither clad, plated, nor coated with metal, whether or not painted, varnished, or coated with plastics or other nonmetallic substances, 4.75 millimeters or more in thickness and of a width which exceeds 150 millimeters and measures at least twice the thickness, as currently classifiable in the HTS under item numbers 7208.31.0000, 7208.32.0000, 7208.33.1000, 7208.33.5000, 7208.41.0000, 7208.42.0000, 7208.43.0000, 7208.90.0000, 7210.70.3000, 7210.90.9000, 7211.11.0000, 7211.12.0000, 7211.21.0000, 7211.22.0045, 7211.90.0000, 7212.40.1000, 7212.40.5000, and 7212.50.0000. Included in this review are flat-rolled products of nonrectangular cross-section where such cross-section is achieved subsequent to the rolling process (i.e., products which have been “worked after rolling”)—for example, products which have been bevelled or rounded at the edges. Excluded from this review is grade X-70 plate.

These HTS item numbers are provided for convenience and customs purposes. The written description remains dispositive.

Analysis of Comments Received

All issues raised in the case and rebuttal briefs by parties to this administrative review are addressed in the “Issues and Decision Memorandum” (Decision Memorandum) from Joseph Spetrini, Deputy Assistant Secretary, Import Administration, to Troy Cribb, Assistant Secretary for Import Administration, dated the same date as publication of this notice, which is hereby adopted by this notice. A list of the issues which parties have raised and to which we have responded, all of which are in the Decision Memorandum, is attached to this notice as an Appendix. Parties can find a complete discussion of all issues raised in this review and the corresponding recommendations in this public memorandum which is on file in room B-099 of the Department of Commerce building. In addition, a complete version of the Decision Memorandum can be accessed directly on the Web at www.ia.ita.gov. The paper copy and electronic version of the Decision Memorandum are identical in content.

Change in the Preliminary Results

Based on our analysis of comments received, we have made certain changes in the margin calculations. We have also corrected certain programming and clerical errors in our preliminary results, where applicable. These changes are discussed in the relevant section of the Decision Memorandum.

Final Results of Review

We determine that a margin of zero percent exists for sales of subject merchandise by MEI for the period August 1, 1998 through July 31, 1999. The Department shall instruct the U.S. Customs Service to liquidate all appropriate entries without regard to antidumping duties. The Department will also instruct Customs to end the suspension of liquidation for all entries of subject merchandise produced by Sidex and exported by MEI entered, or withdrawn from warehouse, for consumption on or after August 1, 1998, and will instruct Customs to release any cash deposits or bonds posted. If applicable, the Department will further instruct Customs to refund with interest any cash deposits on entries made after July 31, 1998.

Cash Deposit Requirements

The following deposit requirements will be effective upon publication of this notice of final results of administrative review for all shipments of cut-to-length carbon steel plate from Romania entered, or withdrawn from warehouse, for consumption on or after the date of publication, as provided by section 751(a)(1) of the Tariff Act: (1) For the reviewed companies the Department shall require no deposit of estimated antidumping duties; (2) for previously reviewed or investigate companies not listed above, the cash deposit rate will continue to be the company-specific rate published for the most recent period; (3) if the exporter is not a firm covered in this review, a prior review, or the original less-than-fair-value (LTFV) investigation, but the manufacturer is, the cash deposit rate will be the rate established for the most recent period for the manufacturer of the merchandise; and (4) the cash deposit rate for all other manufacturers or exporters will continue to be 75.04 percent. This is the “All Others” rate from the LTFV investigation. (See Final Determination of Sales at Less Than Fair Value: Certain Cut-to-Length Carbon Steel Plate from Romania, 58 FR 37209 (July 9, 1993)).

These deposit requirements shall remain in effect until publication of the final results of the next administrative review.

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

This notice also serves as a reminder to parties subject to administrative protective order (APO) of their responsibility concerning the disposition of proprietary information disclosed under APO in accordance with 19 CFR 351.305. Timely notification of return/destruction of APO materials or conversion to judicial protective order is hereby requested. Failure to comply with the regulations and terms of an APO is a sanctionable violation.

We are issuing and publishing this administrative review and notice in accordance with sections 751(a)(1) and 777(i) of the Tariff Act.

Dated: January 5, 2001.
Troy H. Cribb,
Assistant Secretary for Import Administration.

Appendix

Comments and Responses.

1. Rescinding the Review.

2. Barter Transactions.

3. Factor Valuation.

4. Overhead.

5. Use of Inflator.

6. Application of Inflator to Labor Costs.

7. Circumstance-of-Sale Adjustments.

8. Facts Available.

9. Ministerial Errors.

[FR Doc. 01-1106 Filed 1-11-01; 8:45 am]

BILLING CODE 3510-DS-P